FEDERAL DEPOSIT INSURANCE CORPORATION

FDIC System Resolution Advisory Committee; Notice of Charter Amendment

AGENCY: Federal Deposit Insurance Corporation (FDIC).

ACTION: Notice.

SUMMARY: Pursuant to the provisions of the Federal Advisory Committee Act (FACA), and after consultation with the General Services Administration, the Federal Deposit Insurance Corporation is hereby giving notice that the Charter of the FDIC Systemic Resolution Advisory Committee (the Committee) has been amended to increase the number of committee members and allow for the appointment of an alternate Designated Federal Officer.

FOR FURTHER INFORMATION CONTACT: Ms. Debra A. Decker, Committee Management Officer of the FDIC, at (202) 898-8748.

SUPPLEMENTARY INFORMATION: The Committee has been a successful undertaking by the FDIC and has provided valuable feedback to the agency on a broad range of issues regarding the resolution of systemically important financial companies (covered companies) pursuant to the Dodd-Frank Wall Street Reform and Consumer Protection Act. The Committee will continue to provide advice and recommendations on the effects on financial stability and economic conditions of a covered company's failure and how they arise, the effects on markets and stakeholders of the activities of a covered company, market understanding of the structures and tools available to the FDIC to facilitate an orderly resolution of a covered company, the application of such tools to nonbank financial entities, international coordination of planning and preparation for the resolution of internationally active covered companies, and harmonization of resolution regimes across international boundaries. The responsibilities of the Committee are unchanged from when it was originally established in November 2011. The Committee will continue to operate in accordance with the provisions of the Federal Advisory Committee Act.

A copy of the amended charter is available on the FDIC website at https://www.fdic.gov/about/advisory-committees/systemic-resolutions/. A copy of the amended charter may also be obtained by accessing the FACA database that is maintained by the Committee Management Secretariat under the General Services Administration. The website address for the FACA database is http://www.facadatabase.gov/.

Dated: August 2, 2022.
Federal Deposit Insurance Corporation.
James P. Sheesley,
Assistant Executive Secretary.

[FR Doc. 2022-16973 Filed 8-5-22; 8:45 am]

BILLING CODE 6714-01-P